DEPARTMENT OF COMMERCE

Bureau of Industry and Security

Proposed Information Collection; Request

AGENCY: Bureau of Industry and Security.

ACTION: Notice.

SUMMARY: In compliance with the Paperwork Reduction Act (44 U.S.C. 3501 et seq.), this document announces that the Bureau of Industry and Security (BIS), Department of Commerce, will submit for the Office of Management and Budget (OMB) review, a request for an emergency extension of currently approved Information collection requests which will expire on January 31, 2016. The extension is being sought to evaluate the need for and scope of the existing instruments. The Agency expects that OMB will approve these emergency extensions by January 31, 2016 and approve any revised instruments (after appropriate notice and public comment periods).

FOR FURTHER INFORMATION CONTACT: Requests for additional information or copies of the information collection instrument and instructions should be directed to Mark Crace, BIS ICB Liaison, (202) 482-8093, mark.crace@bis.doc.gov.

SUPPLEMENTARY INFORMATION:

I. Abstract

Over the years, BIS has worked with other Government agencies and the affected public to identify areas where export licensing requirements may be relaxed without jeopardizing U.S. national security or foreign policy. Many of these relaxations have taken the form of licensing exceptions and exclusions. Some of these license exceptions and exclusions have a reporting or recordkeeping requirement to enable the Government to continue to monitor exports of these items. Exporters may choose to utilize the license exception and accept the reporting or recordkeeping burden in lieu of submitting a license application.

II. Method of Collection

Electronic Information on Individual ICRs for Which an Emergency Extension Is Requested:

Title of Collections:

1. Simple Network Application Process and Multi-purpose Application Form.

2. Offsets in Military Exports.

3. Licensing Exemptions and Exclusions.

III. Data

1. Simple Network Application Process and Multi-purpose Application Form.

OMB Control Number: 0694-0088.

Form Number: None.

Type of Review: Extension of a currently approved information collection.

Affected Public: Non-profit institutions; State, local, or tribal government; business or other for-profit organizations.

Estimated Number of Respondents: 64,612.

Estimated Time per Response: 0.49 hours.

Estimated Total Annual Burden Hours: 31,833.

Estimated Total Annual Cost to Public: $0.

2. Offsets in Military Exports.

OMB Control Number: 0694-0084.

Form Number: None.

Type of Review: Extension of a currently approved information collection.

Affected Public: Business or other for-profit organizations.

Estimated Number of Respondents: 30.

Estimated Time per Response: 12 hours.

Estimated Total Annual Burden Hours: 360 hours.

Estimated Total Annual Cost to Public: $0.

3. License Exemptions and Exclusions.

OMB Control Number: 0694-0137.

Form Number: None.

Type of Review: Extension of a currently approved information collection.

Affected Public: Non-profit institutions; State, local, or tribal government; business or other for-profit organizations.

Estimated Number of Respondents: 19,738.

Estimated Time per Response: 1.52 hours.

Estimated Total Annual Burden Hours: 29,998.

Estimated Total Annual Cost to Public: $0.

Dated: January 12, 2016.
Glenna Mickelson,
Management Analyst, Office of the Chief Information Officer.

[FR Doc. 2016-00718 Filed 1-14-16; 8:45 am]

BILLING CODE 3510-22-P